DEPARTMENT OF LABOR

Employment and Training Administration

[TA-W-56,498]

Marsh Advantage America, Spartanburg, SC; Notice of Termination of Investigation

Pursuant to section 221 of the Trade Act of 1974, as amended, an investigation was initiated on February 4, 2005, in response to a petition filed on behalf of workers of Marsh Advantage America, Spartanburg, South Carolina.

The petition regarding the investigation has been deemed invalid. Consequently, the investigation has been terminated.

Signed in Washington, DC, this 8th day of February, 2005.
Elliott S. Kushner,
Certifying Officer, Division of Trade Adjustment Assistance.

[FR Doc. E5-1140 Filed 3-15-05; 8:45 am]

BILLING CODE 4510-30-P